OFFICE OF SCIENCE AND TECHNOLOGY POLICY

National Science and Technology Council; Committee on Science; Subcommittee on Research Business Models

ACTION: Notice of open meetings.

SUMMARY: This notice announces four workshops sponsored by the National Science and Technology Council / Committee on Science / Subcommittee on Research Business Models.

DATES AND ADDRESSES: The Subcommittee will hold three one-day regional workshops:

• Monday, October 27, 2003, 9 a.m. to 3:30 p.m. (PST). Lawrence Berkeley National Laboratory, Building 50 Auditorium; Berkeley, CA 94720.

• Wednesday, November 12, 2003, 9 a.m. to 3:30 p.m. (CST). Coffman Memorial Union, University of Minnesota; 300 Washington Ave. S.E.; Minneapolis, MN 55455.

• Monday, November 17, 2003, 9 a.m. to 3:30 p.m. (EST). The University of North Carolina, Carolina Inn, 211 Pittsboro Street, Chapel Hill, NC, 27516.

The Subcommittee will subsequently hold a two-day agenda setting meeting:

• Tuesday, December 9, 2003, 9 a.m. to 5 p.m. (EST) and Wednesday, December 10, 2003, 9 a.m. to 3:30 p.m. (EST). Jefferson Auditorium, South Building; U.S. Department of Agriculture; 1400 Independence Ave., SW; Washington, DC, 20250.

FOR FURTHER INFORMATION CONTACT: Michael Holland, Office of Science & Technology Policy; 1650 Pennsylvania Avenue; Washington, DC 20502. Telephone: (202) 456-6130. Email: mholland@ostp.eop.gov.

SUPPLEMENTARY INFORMATION:

Purpose of the Meetings: The three regional workshops will assist the Subcommittee in its review of policies, procedures, and plans relating to the business relationship between federal agencies and research performers. A subsequent two-day meeting in Washington, DC will assess the input from the regional meetings and help prioritize the agenda of the Subcommittee.

The Committee on Science realizes that much has changed about the practice of scientific research over the last several years. The purpose of the Subcommittee on Research Business Models is to advise and assist the Committee on Science and the NSTC on policies, procedures, and plans relating to business models. Our goal is to improve the efficiency, effectiveness and accountability of the Federal research and development enterprise in a manner cognizant of currently available resources. The Subcommittee will:

—Facilitate a strong, coordinated effort across federal agencies to identify and address important policy implications arising from the changing nature of basic and applied research.

—Examine the concomitant influence these changes have had or should have on business models and business practices for the conduct of basic and applied research sponsored by the Federal government and carried out by academic, industrial, and government entities.

—Review the challenges to improved performance and mechanisms for more transparent accountability of the research enterprise.

These workshops are based upon a request for information published August 6, 2003 by OSTP in the Federal Register (vol. 68, No. 151, p. 46631; available at http://www.ostp.gov/html/Request for Info 03-19935.pdf).

Tentative Agenda Topics: (Agenda topics may change up to the day of the meetings. The most current agendas will be found on the Subcommittee's Internet site at http://rbm.nih.gov/). The three regional workshops will have the following structure:

• Welcome and Introduction

• Summary of Federal Register comments

• Morning Panel Discussion (see below for themes of each workshop's panels)

• Afternoon Panel Discussion

• Public Comment Period

Each regional workshop will focus on a subset of the questions posed in the August 6, 2003 Federal Register request for information (http://www.ostp.gov/html/Request for Info 03-19935.pdf) as described below.

Monday, October 27, 2003, Berkeley, CA

The theme of this workshop will be “Alignment of Funding Mechanisms with Scientific Opportunities.” Our focus will include the following issues published in the August 6, 2003 Federal Register notice (http://www.ostp.gov/html/Request for Info 03-19935.pdf): Research support, multidisciplinary/collaborative research, and research Infrastructure.

• Morning Panel-“Does How We Support Research Determine What We Get: Perspectives from the S&E Community.”

• Afternoon Panel-“New Models for Supporting Science & Engineering Research.”

• Information concerning pre-registration, accommodations and directions is available at http://isswprod.lbl.gov/ConferenceReg/Registration.asp?ID=33.

Wednesday, November 12, 2003, Minneapolis, MN

The theme of this workshop will be “Common Practices among Agencies.” Our focus will include the following issues published in our August 6, 2003 Federal Register notice (http://www.ostp.gov/html/Request for Info 03-19935.pdf): Inconsistency of policies and practices among Federal agencies, inconsistency of policies and practices among universities, state and institutional requirements, and regulatory requirements.

• Morning Panel-“When Policies and Practices Collide: What Do Feds Ask for?”

• Afternoon Panel-“Post-Collision: What Should Feds Ask for?”

• Information concerning pre-registration, accommodations and directions is available at http://www.research.umn.edu/conferences/nsf/.

Monday, November 17, 2003, Chapel Hill, NC

The theme of this workshop will be the “Appropriate Costs of Research Enterprise—Determination, Recovery, and Accountability.” Our focus will include the following issues published in the August 6, 2003 Federal Register notice (http://www.ostp.gov/html/Request for Info 03-19935.pdf): Accountability, information technology, and technology transfer optimization.

• Morning Panel-“IT: Has Technology Made and Can It Make Research Administration More Efficient? How Can Grants.Gov Help the Process?”

• Afternoon Panel-“Compliance Costs: Balancing Requirements with the Public's Interests.”

• Information concerning pre-registration, accommodations and directions is available at http://research.unc.edu/workshops/.

Tuesday, December 9, 2003 and Wednesday, December 10, 2003, Washington, DC

The agenda of the Washington meeting will be strongly influenced by public comments submitted in response to the prior Federal Register notice and by the input from the three regional workshops. The agenda for this meeting will be available on the Subcommittee's Internet site (http://rbm.nih.gov/) after the November 17 workshop has taken place. In addition, we plan a satellite broadcast of parts of the Washington meeting. We will identify these broadcast segments in the posted agenda.

Public Participation: Each announced meeting is open to the public. Each workshop allots 90 minutes for public comments from the floor. Please submit your request to make oral statements to nstc_rbm@ostp.eop.gov (e-mail) or contact Michael Holland at 202-456-6130 (telephone). You must make your request for an oral statement at least 5 business days prior to the meeting. We will schedule oral statements during each of the public comment periods in the order in which they are received. The Subcommittee strongly encourages all those scheduled during the public comment periods to file a written copy of their statement via email to nstc_rbm@ostp.eop.gov. You may submit your oral statement in advance or up to five (5) business days after a workshop. We request that this written statement be limited to three pages. Public comment will follow the 3-minute rule.

Meeting Summaries: Summaries of each regional workshop and the Washington meeting will be available on the Subcommittee's Internet site (http://rbm.nih.gov/) for public review and copying within 45 days of each meeting.

Authority

The National Science and Technology Council (NSTC) was established under Executive Order 12881 on November 23, 1993. The Committee on Science is chartered under the NSTC. The purpose of the Committee on Science is to advise and assist the NSTC, with emphasis on those federally supported efforts that develop new knowledge in the sciences, mathematics, and engineering.

Kathie L. Olsen,
Associate Director and Co-chair, Committee on Science.

[FR Doc. 03-23573 Filed 9-15-03; 8:45 am]

BILLING CODE 3170-01-P